DEPARTMENT OF DEFENSE

Department of the Army; Corps of Engineers

Notice of Intent To Prepare Draft Supplement No. 1 to the Final Environmental Impact Statement [FEIS] for Operation and Maintenance, Lake Greeson, Lake Ouachita, and DeGray Lake, Arkansas

AGENCY: U.S. Army Corps of Engineers, Vicksburg District, DOD.

ACTION: Notice of intent.

SUMMARY: The purpose of the proposed action is to evaluate the environmental impacts of the U.S. Army Corps of Engineers proposed continued operation and maintenance activities at Lake Greeson, Lake Ouachita, and DeGray Lake, Arkansas.

FOR FURTHER INFORMATION CONTACT: Mr. Wendell King (telephone (601) 631-5967), CEMVK-PP-PQ, 4155 Clay Street, Vicksburg, Mississippi 39183-3435.

SUPPLEMENTARY INFORMATION: Lake Greeson, Lake Ouachita, and DeGray Lake are part of a comprehensive plan for flood control, navigation, and hydroelectric power production for the Ouachita River Basin. Lake Greeson is located on the Little Missouri River in Pike County, Arkansas, 6 miles north of Murfreesboro, and 64 miles southwest of Hot Springs. Lake Ouachita is located on the Ouachita River in Garland and Montgomery Counties, Arkansas, 13 miles west of Hot Springs. DeGray Lake is located on the Caddo River in Clark and Hot Spring Counties, Arkansas, 8 miles north of Arkadelphia.

Lake Greeson was authorized by the Flood Control Act of 18 August 1941, Public Law 228, 77th Congress, 1st Session, as amended by the Flood Control Act of 22 December 1944. It is now officially named “Narrows Dam-Lake Greeson.” Lake Ouachita was authorized by the Flood Control Act of 22 December 1944, Public Law 534, 78th Congress, Chapter 655, 2nd Session, House Report No. 4485, which adopted the plan as set forth in House Document No. 647. It is now officially “Blakely Mountain Dam-Lake Ouachita.” DeGray Lake was authorized by Congress in the Rivers and Harbors Act of 1950.

The authorized purposes of Lake Greeson and Lake Ouachita are flood control and hydroelectric power production. This authority was amended by Section 4 of the Flood Control Act of 1944 to include public recreation on these projects. Authority to construct, maintain, and operate public parks and recreational facilities at water resource development projects under the control of the Department of the Army was granted under section 207 of the Flood Control Act of 1962. The authorized purposes of DeGray Lake are flood control, hydroelectric power, water supply, navigation, and recreation. Lake Greeson became operational in 1950; Lake Ouachita became operational in 1953; and DeGray Lake was placed into operation in 1972.

The FEIS for Operation and Maintenance, Lake Greeson, lake Ouachita, and DeGray Lake, Arkansas, was completed by the Corps in September 1977. The proposed action will evaluate the environmental impacts of Corps continued conduct of operation and maintenance activities in support of the authorized project purposes for the lakes.

The significant issues tentatively identified for evaluation of the environmental impacts of operation and maintenance activities include (1) impacts of flood control storage, (2) impacts of hydroelectric generation, (3) impacts to water supply storage, and (4) impacts to resource management, including concession expansions.

The National Environmental Policy Act (40 CFR part 1501.7) requires all Federal agencies preparing EIS's to conduct a process termed “scoping.” This scoping process determines the issues to be addressed and identifies the significant issues related to a proposed action. To accomplish this, public scoping meetings are tentatively scheduled to be held in Arkansas in September 2000. The Environmental Protection Agency, U.S. Fish and Wildlife Service, Natural Resources Conservation Service, Arkansas Department of Environmental Quality, and Arkansas Game and Fish Commission will be invited to become cooperating agencies. All interested agencies, groups, tribes,and individuals will be sent copies of the Draft Supplemental EIS and FEIS.

The Draft Supplemental EIS is scheduled to be completed in October 2001.

Robert Crear,
Colonel, Corps of Engineers, District Engineer.

[FR Doc. 00-21654 Filed 8-23-00; 8:45 am]

BILLING CODE 3710-PU-M